DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collection and its expected burden. A Federal Register Notice soliciting public comment on the ICR, with a 60-day comment period, was published on January 11, 2008 at 73 FR 2077.

DATES: Comments must be submitted to OMB on or before July 21, 2008.

FOR FURTHER INFORMATION CONTACT: David Coleman, Office of Vehicle Safety Compliance (NVS-223), West Building—Room W43-488, 1200 New Jersey Avenue, SE., Washington, DC 20590 (202-366-5302).

SUPPLEMENTARY INFORMATION: National Highway Traffic Safety Administration.

Title: Manufacturer Identification.

OMB Number: 2127-0043.

Type of Request: Extension of a Currently Approved Collection.

Abstract: The National Highway Traffic Safety Administration (NHTSA) has requested OMB to extend that agency's approval of the information collection that is incident to NHTSA's administration of the regulation at 49 CFR part 566 that requires manufacturers of U.S. market motor vehicles and motor vehicle equipment subject to the Federal motor vehicle safety standards administered by NHTSA, to identify themselves and their products to NHTSA.

Affected Public: All manufacturers of motor vehicles, and all manufacturers of motor vehicle equipment, other than tires, to which a motor vehicle safety standard applies.

Estimated Total Annual Burden: 25 minutes of one staff member's time for each new U.S. manufacturer, or for each manufacturer revising information previously submitted to the agency. In the last year, NHTSA received information from approximately 200 manufacturers. Allowing 25 minutes per manufacturer, the time for all U.S. market manufacturers was approximately 83 burden hours. Allowing for an average U.S. business cost to draft letters of $60.00 per hour, the total yearly cost to comply with 49 CFR Part 566's requirements was $4,980.

ADDRESSES: Send comments, within 30 days, to the Office of Information and Regulatory Affairs, Office of Management and Budget, 725-17th Street, NW., Washington, DC 20503, Attention NHTSA Desk Officer.

Comments are invited on:

• Whether the proposed collection of information is necessary for the proper performance of the functions of the Department, including whether the information will have practical utility.

• Whether the Department's estimate of the burden of the proposed information collection is accurate.

• Ways to enhance the quality, utility and clarity of the information to be collected.

• Ways to minimize the burden of the collection of information on respondents, including the use of automated collection techniques or other forms of information technology.

A comment to OMB is most effective if OMB receives it within 30 days of publication.

Issued on: June 13, 2008.
Daniel C. Smith,
Associate Administrator for Enforcement.

[FR Doc. E8-13872 Filed 6-18-08; 8:45 am]

BILLING CODE 4910-59-P